ENVIRONMENTAL PROTECTION AGENCY

[FRL-10956-01-R9]

Notice of Availability of Proposed National Pollutant Discharge Elimination System (NPDES) General Permit for Low Threat Discharges in Navajo Nation

AGENCY: Environmental Protection Agency (EPA).

ACTION: Notice of availability.

SUMMARY: The Environmental Protection Agency (EPA), Region 9 is proposing to reissue a general National Pollutant Discharge Elimination System (NPDES) permit for water discharges from facilities classified as low threat located in the Navajo Nation (Permit No. NNG990001). The permit will be reissued upon completion of the notice and comment period and after due consideration has been given to all comments received. The permit, upon issuance, will be valid for five years. Use of a general NPDES permit in the location described above allows EPA and dischargers to allocate resources in a more efficient manner, obtain timely permit coverage, and avoid issuing resource intensive individual permits to each facility, while simultaneously providing greater certainty and efficiency to the regulated community and ensuring consistent permit conditions for comparable facilities. This notice announces the availability of the proposed general NPDES permit and the corresponding fact sheet for public comment which can be found at EPA Region 9's website at: https://www.epa.gov/npdes-permits/npdes-permits-epas-pacific-southwest-region-9.

DATES: Comments on the proposed NPDES general permit must be received by June 26, 2023.

ADDRESSES: The proposed NPDES general permit, related documents, and instructions for submitting comments are available for public inspection online at: https://www.epa.gov/npdes-permits/proposed-reissuance-npdes-general-permit-low-threat-discharge-navajo-nation-nng990001. If there are issues accessing the website, please contact EPA via the contact information below.

FOR FURTHER INFORMATION CONTACT: Gary Sheth, EPA Region 9, Water Division, NPDES Permits Office; telephone (415) 972-3516; email address: sheth.gary@epa.gov. The proposed NPDES general permit, fact sheet, and other related documents in the administrative record are on file and may be inspected in person any time between 9 a.m. and 4 p.m., Monday through Friday, excluding legal holidays, at the following address: U.S. EPA Region 9, NPDES Permits Section, Water Division, 75 Hawthorne Street, San Francisco, CA 94105-3901.

SUPPLEMENTARY INFORMATION:

A. Does this action apply to me?

The proposed NPDES General Permit for Low Threat Discharges in Navajo Nation is intended to provide coverage for discharges of certain types of wastewater that contain only low levels of pollutants and are below a specified volume or for a limited time, to surface waters within the tribal lands of Navajo Nation (which includes areas within Arizona, New Mexico and Utah).

B. How can I submit comments?

• Submit comments by the deadline identified in this Federal Register notice.

• No public hearing is planned. If you would like to request a hearing, please see instructions at: https://www.epa.gov/npdes-permits/npdes-permits-epas-pacific-southwest-region-9.

• Provide your comments in writing via instructions found here: https://www.epa.gov/npdes-permits/npdes-permits-epas-pacific-southwest-region-9. If you need assistance in a language other than English or if you are a person with disabilities who needs a reasonable accommodation at no cost to you, please reach out by email or telephone to the EPA contact listed above. EPA encourages electronic submittals of comments, but if you are unable to submit electronically or need other assistance, please reach out to the contact information above.

• Please note “General Permit for Low Threat Discharges in Navajo Nation” in the subject line of any email submittal and include documentation to support your comments.

Authority: Clean Water Act, 33 U.S.C. 1251 et seq.

Dated: May 19, 2023.
Tomas Torres,
Director, Water Division, EPA Region 9.

[FR Doc. 2023-11217 Filed 5-24-23; 8:45 am]

BILLING CODE 6560-50-P